DEPARTMENT OF THE TREASURY

Office of Foreign Assets Control

Payments to Persons Who Hold Certain Categories of Judgments Against Cuba or Iran

February 19, 2003.

AGENCY: Department of the Treasury; Office of Foreign Assets Control.

ACTION: Notice.

SUMMARY: This notice specifies the Secretary of the Treasury's intention to pay on March 21, 2003 certain claims filed pursuant to section 2002 of the Victims of Trafficking and Violence Protection Act of 2000, Public Law no. 106-386, as amended by the Foreign Relations Authorization Act, Fiscal Year 2003, Public Law 107-228. Section 2002 directs the Secretary to make payments to persons who hold certain categories of judgments against Cuba or Iran in suits brought under 28 U.S.C. 1605(a)(7).

This notice also specifies the procedures necessary for persons filing applications after November 26, 2002, to establish eligibility for payments authorized by section 2002 of the Victims of Trafficking and Violence Protection Act of 2000 (the “VTVPA”), Public Law no. 106-386, as amended by section 686 of the Foreign Relations Authorization Act, Fiscal Year 2003, Public Law no. 107-228, and as further amended by section 201 of the Terrorism Risk Insurance Act of 2002 (the “TRIA”), Public Law no. 107-297. The publication of this notice necessarily precedes the making of payments in order to implement the TRIA's amendments to the VTVPA. This notice supersedes the two notices previously published by the Department of the Treasury (“the Treasury”) on November 22, 2000, and December 15, 2000, at 65 FR 70382 and 65 FR 78533, respectively, for all such applications filed after November 26, 2002. The rules set forth in the two preceding notices shall continue to apply to applications filed with the Treasury prior to November 26, 2002, that are still pending before the Treasury. Applications filed with the Treasury before November 26, 2002, that were determined to be ineligible for payment are no longer pending before the Treasury. Those applicants previously determined to be ineligible for payment, but who may now be eligible due to amendments of section 2002, must therefore file new applications with the Treasury pursuant to the rules set forth in this new notice.

This notice also sets forth estimates of the funds available for payment of eligible Iran-related claims for payment under section 2002 that are filed with the Treasury after November 26, 2002.

DATES: This notice is effective February 19, 2003.

FOR FURTHER INFORMATION CONTACT: For questions regarding submission of applications, Rochelle E. Stern, Chief, Policy Planning and Program Management Division, Office of Foreign Assets Control, tel.: 202/622-2500. For legal questions, Office of the Chief Counsel (Foreign Assets Control), tel.: 202/622-2410.

Part 1. Payment of Certain Claims on March 21, 2003

The Treasury expects to complete the processing of payment on March 21, 2003 to certain claimants pursuant to section 2002 of the Victims of Trafficking and Violence Protection Act of 2000 (the “VTVPA”), Public Law No. 106-386, as amended by section 686 of the Foreign Relations Authorization Act, Fiscal Year 2003, Public Law No. 107-228. The claimants scheduled to receive payment on March 21, 2003 are those who filed lawsuits against Iran on June 6, 2000, received judgments in the lawsuit entitled Carlson v. The Islamic Republic of Iran, Civil Case No. 00-CV-1309 (D.D.C.), and filed claims for payment with the Treasury prior to November 26, 2002.

Section 2002 of the Victims of Trafficking and Violence Protection Act of 2000 (the “VTVPA”), Public Law No. 106-386, as amended by section 686 of the Foreign Relations Authorization Act, Fiscal Year 2003, Public Law No. 107-228, and as further amended by section 201 of the Terrorism Risk Insurance Act of 2002 (the “TRIA”), Public Law No. 107-297 will hereinafter be referred to as “section 2002”.

Part 2. Applicants; Deadlines for Submission of Applications

The term “Applicant,” as used herein, refers to a person described in section 2002(a)(2) as eligible for payment under such section 2002 and who files a claim for payment with the Treasury after November 26, 2002. A person described in section 2002(a)(2) is

(1) A person who, as of July 20, 2000, held a final judgment awarding compensatory damages on a claim or claims brought under section 1605(a)(7) of title 28, United States Code, against Iran or Cuba, or the right to payment of an amount awarded as a judicial sanction with respect to such claim or claims, or

(2) a person who filed a suit under such section 1605(a)(7) on February 17, 1999, December 13, 1999, January 28, 2000, March 15, 2000, June 6, 2000, July 27, 2000, any other date before October 28, 2000, or January 16, 2002, and holds a final judgment awarding compensatory damages against either Iran (as described below) or Cuba in such suit. With respect to those who filed suits against Iran, such persons must hold final judgments for compensatory damages issued as of November 26, 2002, or must have filed suit on January 16, 2002.

Those who filed claims with the Treasury prior to November 26, 2002, and whose claims were denied, but who may now be eligible for payment due to amendments to Public Law 106-386, must resubmit applications in accordance with this notice. The requirements of Parts 2 through 6 of this notice do not apply to claimants who have already received payment or whose claims are still pending with the Treasury.

Each Applicant must submit a separate, complete application containing all the information and documentation described in Part 3, below. If an Applicant is currently represented by counsel, his or her application must be submitted through that counsel.

Section 2002 distinguishes between final judgments issued as of and after November 26, 2002. In the case of Applicants holding final judgments that were issued as of November 26, 2002, complete applications for payment, as described in Part 3, below, must be received in the Department of the Treasury's Office of Foreign Assets Control by April 7, 2003. In the case of any Applicant holding a final judgment issued after November 26, 2002, in the case filed on January 16, 2002, and identified in section 2002(a)(2)(A) with respect to Iran, complete applications for payment, as described in Part 3, below, must be received in the Office of Foreign Assets Control within 20 calendar days after the date such judgment becomes final.

Part 3. Applications for Payment

Applications for payment under section 2002 must be sent to the Office of Foreign Assets Control, U.S. Department of the Treasury, 1500 Pennsylvania Avenue, NW., Washington, DC 20220, Attn: Rochelle E. Stern. Applications must contain all of the information and documentation as specified in this Part 3. Applications must be sent by overnight mail or by overnight courier. Applications sent electronically, via facsimile, by hand delivery, certified mail, or any other means other than overnight mail or overnight courier shall be deemed noncomplying. All information and documentation required by paragraphs (a) through (f) below must be submitted to the noted address by overnight mail or by overnight courier.

All information required by paragraphs (a) through (f) of this Part 3 is to be provided in the order set forth below and numbered correspondingly.

(a) Information Regarding Applicant and Payment.

(1) Information Regarding Applicant: An Applicant shall submit the following information:

(A) name, address, telephone number, and, if available, facsimile number of Applicant and Applicant's social security number or taxpayer identification number; and

(B) if the Applicant is represented by counsel, name(s), address(es), telephone number(s), and facsimile number(s) of Applicant's counsel.

(2) Payment Information: Payments will be made by electronic funds transfer. Payments will be made only to the Applicant or the Applicant's counsel. The application shall designate which of these parties is to receive the payment by including one of the following two statements:

“Payment of amounts owing to [insert name of Applicant] under section 2002 shall be made to [insert name of Applicant].”

“Payment of amounts owing to [insert name of Applicant] under section 2002 shall be made to [insert name of Applicant's counsel].”

An Applicant shall submit the following information:

(A) name of person or entity to whom payment is to be made [insert name of Applicant or Applicant's counsel] (the “payee”);

(B) American Bankers Association Routing and Transit Code number of the bank holding payee's account (include copy of canceled check or savings deposit slip);

(C) name and address of payee's bank;

(D) payee's bank account number;

(E) type of account (checking or savings); and

(F) social security number or taxpayer identification number of payee.

(b) Documentation on Compensatory Damages.

An Applicant shall submit a copy of the final judgment awarding the Applicant compensatory damages on a claim or claims brought by the Applicant under 28 U.S.C. 1605(a)(7). This copy must be certified by the clerk of the court that awarded the judgment.

In addition, the Applicant must submit a statement signed pursuant to 28 U.S.C. 1746 identifying what proportion, if any, of his compensatory damage award has been paid. This statement must also provide a description of all ongoing attachment and/or execution proceedings relating to the Applicant's judgment, including the case name and number, the name and location of the court where such proceeding has been filed, the date of filing, and the names of all parties involved.

(c) Documentation on Punitive Damages.

An Applicant who elects to receive 110 percent of compensatory damages, as allowed under section 2002(a)(1)(A), shall submit a copy of the final judgment awarding the Applicant punitive damages on a claim or claims brought by the Applicant under 28 U.S.C. 1605(a)(7). This copy must be certified by the clerk of the court that awarded the judgment.

In addition, the Applicant must submit a statement signed pursuant to 28 U.S.C. 1746 identifying what proportion, if any, of his punitive damage award has been paid. This statement must also provide a description of all ongoing attachment and/or execution proceedings relating to the Applicant's judgment, including the case name and number, the name and location of the court where such proceeding has been filed, the date of filing, and the names of all parties involved.

(d) Documentation on Sanctions.

(1) An Applicant seeking payment of amounts awarded as sanctions by judicial order on April 18, 2000 (as corrected on June 2, 2000) in connection with a claim or claims brought by the Applicant under 28 U.S.C. 1605(a)(7) shall submit a copy of the judicial order of April 18, 2000 (as corrected on June 2, 2000) awarding the Applicant sanctions. The copy must be certified by the clerk of the court that issued the order.

(2) The Applicant must also establish that this order is final and not subject to further appellate review. The Applicant can so establish by providing one of the following:

(A) a copy of a judgment of dismissal by the U.S. Court of Appeals of any pending appeal from the sanctions order, which copy must be certified by the clerk of the court of appeals;

(B) a signed statement that the time to appeal the sanctions order has expired without a notice of appeal having been filed, or a signed written waiver of the right to seek any further review of any adverse aspect of the sanctions order from any party that would have a basis for seeking review of that decision;

(C)(i) a copy of a final decision by the U.S. Court of Appeals on the sanctions order that affirms or otherwise leaves intact the sanctions order, in whole or in part, and that has been certified by the clerk of the Court of Appeals and,

(ii)(I) a citation to the order of the U.S. Supreme Court denying certiorari or dismissing any pending petition for a writ of certiorari;

(II) a signed statement that the time to petition for a writ of certiorari has expired, without such a petition having been filed; or

(III) if the time to petition for a writ of certiorari has not expired, a signed written waiver from all unsuccessful appellants of their right to petition for a writ of certiorari; or

(D) a copy of a final decision by the U.S. Supreme Court on the sanctions order that affirms or otherwise leaves intact the sanctions order, in whole or in part.

(e) Documentation on Final Judgment or Date Suit Commenced.

In order to receive payment, an Applicant must meet one of the following two requirements documenting the final judgment and, where applicable, the date on which the Applicant's suit commenced.

(1) To meet the first requirement, the Applicant must establish that he or she had, as of July 20, 2000, a final judgment for a claim or claims brought under 28 U.S.C. 1605(a)(7) or the right to payment of an amount awarded as a judicial sanction with respect to such claim or claims. The Applicant can establish that he or she had a final judgment for a claim or claims brought under 28 U.S.C. 1605(a)(7) as of July 20, 2000, by submitting the judgment specified in Part 3(b) above, which must be dated July 20, 2000, or earlier, along with all appellate orders on that judgment, if any, and a signed statement demonstrating why further appellate review is unavailable. The Applicant can establish that he or she had a right to payment of an amount awarded as a judicial sanction by submitting the order specified in Part 3(d) above, which must be dated July 20, 2000, or earlier, along with proof that this order is final and not subject to further appellate review.

(2) If an Applicant does not satisfy paragraph (1) above, the Applicant shall submit satisfactory proof of the following:

(A) The date on which the Applicant filed a suit against Iran or Cuba under 28 U.S.C. 1605(a)(7). This proof shall be in the form of a docket sheet or other document that has been certified by the clerk of the court in which the suit was filed. Applicants proceeding under this paragraph shall be eligible for payment only if suit was filed on February 17, 1999, December 13, 1999, January 28, 2000, March 15, 2000, June 6, 2000, July 27, 2000, any other date before October 28, 2000, or January 16, 2002.

(B) That Applicant has a final judgment in a suit described in Part 3(e)(2)(A) above. The Applicant can satisfy this requirement by submitting the judgment specified in Part 3(b) above, along with all appellate orders on that judgment, if any, and a signed statement demonstrating why further appellate review is unavailable. Applicants shall be eligible for payment only if such judgment was issued as of November 26, 2002, with the exception of any final judgment entered in the case filed on January 16, 2002.

(f) Election of Payment Option and Associated Relinquishment.

(1) All Applicants must elect a payment option established by section 2002. If the Applicant has received an award of punitive damages, the Applicant shall elect to receive either 110 percent or 100 percent of the compensatory damages, amounts necessary to pay post-judgment interest under 28 U.S.C. 1961, and, where applicable, the amount awarded as sanctions on or in connection with a claim or claims brought under 28 U.S.C. 1605(a)(7). If the Applicant has not received an award of punitive damages, the Applicant shall elect to receive 100 percent of the compensatory damages, amounts necessary to pay post-judgment interest under 28 U.S.C. 1961, and, where applicable, the amount awarded as sanctions on or in connection with a claim or claims brought under 28 U.S.C. 1605(a)(7). It is not within the Department of the Treasury's purview to advise Applicants on which option they should select.

By electing one of these options, the Applicant relinquishes certain claims and rights, as specified in section 2002. See section 2002(a)(2)(B)-(D). If an Applicant elects to receive 110 percent of the compensatory damages, amounts necessary to pay post-judgment interest under 28 U.S.C. 1961, and, where applicable, the amount awarded as sanctions on or in connection with a claim or claims brought under 28 U.S.C. 1605(a)(7) (110 percent option), the Applicant must relinquish all claims and rights to compensatory damages and amounts awarded as judicial sanctions, as well as all claims and rights to punitive damages. Section 2002(a)(2)(B)-(C).

If an Applicant elects to receive 100 percent of the compensatory damages, amounts necessary to pay post-judgment interest under 28 U.S.C. 1961, and, where applicable, the amount awarded as sanctions on or in connection with a claim or claims brought under 28 U.S.C. 1605(a)(7) (100 percent option), the Applicant must relinquish all claims and rights to compensatory damages and amounts awarded as judicial sanctions, as well as “all rights to execute against or attach property that is at issue in claims against the United States before an international tribunal, that is the subject of awards rendered by such tribunal, or that is subject to section 1610(f)(1)(A) of title 28, United States Code.” Section 2002(a)(2)(D). Title 28 U.S.C. 1610(f)(1)(A), in turn, addresses “any property with respect to which financial transactions are prohibited or regulated pursuant to section 5(b) of the Trading with the Enemy Act (50 U.S.C. App. 5(b)) (“TWEA”), section 620(a) of the Foreign Assistance Act of 1961 (22 U.S.C. 2370(a)), sections 202 and 203 of the International Emergency Economic Powers Act (50 U.S.C. 1701-1702) (“IEEPA”), or any other proclamation, order, regulation, or license issued pursuant thereto.” 28 U.S.C. 1610(f)(1)(A). Virtually every transaction involving Cuban property within the jurisdiction of the United States is “prohibited or regulated” pursuant to TWEA. Additionally, almost every transaction involving Iranian property within the jurisdiction of the United States is “prohibited or regulated” pursuant to IEEPA. Section 2002(a)(2)(D) therefore prohibits an Applicant who elects the 100 percent option from seeking to execute his or her punitive damage award against, or from seeking to attach, virtually all Iranian or Cuban assets within the jurisdiction of the United States.

To make an election, the Applicant must submit two declarations as set forth in Parts 3(f)(3-4) below. The Applicant must submit (1) either the declaration set forth in Part 3(f)(3)(A) or that set forth in Part 3(f)(3)(B), and (2) the declaration set forth in Part 3(f)(4). All declarations submitted must be completed in full.

In making payments under section 2002, subject to funds availability, the Secretary will pay post-judgment interest on 110 percent of compensatory damages or 100 percent of compensatory damages, according to whether the Applicant elects to receive payment equaling 110 or 100 percent of compensatory damages. The Secretary will not pay post-judgment interest on portions of the judgment for which the Applicant is not entitled to receive payment under section 2002, including amounts awarded as punitive damages. Nor will the Secretary pay post-judgment interest on the amounts awarded as sanctions, as section 2002(a)(1) does not provide for payment of post-judgment interest on sanctions awards.

(2) Section 201 of the Terrorism Risk Insurance Act of 2002 (the “TRIA”), Public Law No. 107-297 (“section 201”).

Section 201 amends section 2002 by, inter alia, establishing a partial, pro rata payment mechanism, which is described in Part 5 below. This partial payment mechanism, set forth in new subsection (d) of section 2002, will come into effect in the event that the Secretary of the Treasury determines that 90 percent of the amounts available to be paid under section 2002(b)(2) are inadequate to pay the total amount of compensatory damages awarded in judgments issued as of November 26, 2002, in cases identified in section 2002(a)(2)(a) with respect to Iran. If this determination is made, the payment an Applicant receives will be less than the full amount of unpaid compensatory damages awarded to the Applicant and will not include amounts necessary to pay post-judgment interest under 28 U.S.C. 1961.

Section 201 also amends section 2002 to provide, in new subsection (d)(5), that any person receiving less than the full amount of compensatory damages awarded to that party in a judgment to which new subsection (d) applies shall not be required to make the election set forth in section 2002(a)(2)(B) (i.e., relinquishing all claims and rights to compensatory damages and judicial sanctions) or, with respect to section 2002(a)(2)(D), the election relating to relinquishment of any right to execute or attach property that is subject to section 1610(f)(1)(A) of title 28, United States Code. However, such person shall be required to relinquish rights set forth (1) in section 2002(a)(2)(C) (i.e., all rights and claims to punitive damages), and (2) in section 2002(a)(2)(D) with respect to enforcement against property that is at issue in claims against the United States before an international tribunal or that is the subject of awards by such tribunal.

To take account of new subsection (d)(5), the elections of the 110 percent option and the 100 percent option that appeared in prior Federal Register notices on this subject have been amended, as set forth in Part 3(f)(3) below. The amendments provide that, in the event the Secretary makes the determination that funds are inadequate as specified in section 2002(d)(1)(A), the payment the Applicant receives will be less than the full amount of unpaid compensatory damages, and such payment will not include amounts necessary to pay post-judgment interest under 28 U.S.C. 1961. In that event, the relinquishments already made in the declarations and described in Part 3(f)(1) above shall be null and void, and, in lieu thereof, the Applicant, as required by new subsection (d)(5), relinquishes all rights and claims to punitive damages and all rights to execute against or attach property that is at issue in claims against the United States before an international tribunal or that is the subject of awards by such tribunal.

(3) To make an election, the Applicant must submit two declarations as set forth in Parts 3(f)(3-4) below. The Applicant must submit (1) either the declaration set forth in Part 3(f)(3)(A) or that set forth in Part 3(f)(3)(B), and (2) the declaration set forth in Part 3(f)(4). The Applicant must sign each declaration pursuant to 28 U.S.C. 1746. All declarations submitted must be completed in full.

To make the election, the Applicant shall submit one of the two declarations set forth in (A) and (B) below. As set forth in Part 3(f)(1) above, applicants who have received awards of punitive damages shall elect either the declaration set forth in (A) or (B) below. Applicants who have not received awards of punitive damages shall use the declaration set forth in (B) below.

(A) “I, ____ (insert name of Applicant), elect to receive 110 percent of the amount awarded to me as compensatory damages, amounts necessary to pay post-judgment interest under 28 U.S.C. 1961, and, where applicable, amounts awarded as judicial sanctions on or in connection with the claim or claims I brought under 28 U.S.C. 1605(a)(7). By so electing, I state that I have been awarded a judgment that includes an award of punitive damages. I further state, as required by section 2002 of the Victims of Trafficking and Violence Protection Act of 2000, P.L. No. 106-386 as amended by section 686 of the Foreign Relations Authorization Act, Fiscal Year 2003, Public Law No. 107-228, and as further amended by section 201 of the Terrorism Risk Insurance Act of 2002, Public Law No. 107-297 (“section 2002”), that I relinquish (a) all claims and rights to compensatory damages and amounts awarded as judicial sanctions under such judgments and any related interest, costs, and attorneys fees, and (b) all claims and rights to punitive damages awarded in connection with such claim or claims and any related interest, costs, and attorneys fees. In relinquishing these above-mentioned claims and rights, I recognize that I relinquish any rights to seek writs of attachment, execution, or garnishment, or any other form of post-judgment process intended to obtain partial or complete satisfaction of any amounts awarded in connection with the claim or claims under 28 U.S.C. 1605(a)(7) for which I am electing to receive payment.

“I understand that this relinquishment is irrevocable once the payment is credited to the bank account I have identified in this application. I further agree and acknowledge that, pursuant to section 2002(c), once the payment is credited to the bank account I have identified in this application, and to the extent such payment is made under section 2002(b)(2)(B), the United States shall be fully subrogated and assigned to all of my rights as a judgment creditor, and to the rights, if any, of any other person or entity to whom payments are made (collectively ‘payees'), against the debtor foreign state. Such subrogation and assignment of payees' rights as judgment creditors is binding on their guardians, heirs, executors, administrators or assigns.

“In the event that the Secretary of the Treasury determines that 90 percent of the amounts available to be paid under section 2002(b)(2) are inadequate to pay the total amount of compensatory damages awarded in judgments issued as of November 26, 2002, in cases identified in section 2002(a)(2)(A) with respect to Iran, I understand that the payment that I receive will be less than the full amount of compensatory damages awarded to me and that such payment will not include amounts necessary to pay post-judgment interest under 28 U.S.C. 1961. In that event, the relinquishment set forth above shall be null and void and, in lieu thereof, as required by section 2002(d)(5), I hereby relinquish (1) all rights and claims to punitive damages awarded in connection with the claim or claims I brought under 28 U.S.C. 1605(a)(7) and any related interest, costs, and attorneys fees, and (2) all rights to execute against or attach property that is at issue in claims against the United States before an international tribunal or that is the subject of awards by such tribunal.

“I understand that the relinquishment that I make in the event of any pro rata distribution is irrevocable once the payment is credited to the bank account I have identified in this application. I further agree and acknowledge that, pursuant to section 2002(c), once the payment is credited to the bank account I have identified in this application, and to the extent such payment is made under section 2002(b)(2)(B), the United States shall be subrogated and assigned, to the extent of such payment, to my rights as a judgment creditor, and to the rights, if any, of any other person or entity to whom payments are made (collectively “payees”), against the debtor foreign state. Such subrogation and assignment of payees' rights as judgment creditors is binding on their guardians, heirs, executors, administrators or assigns.

“I declare under penalty of perjury under the laws of the United States of America that the foregoing is true and correct. Executed on (insert date).”

(B) “I, ____ (insert name of Applicant), elect to receive 100 percent of the amount awarded to me as compensatory damages, amounts necessary to pay post-judgment interest under 28 U.S.C. 1961, and, where applicable, amounts awarded as judicial sanctions on or in connection with the claim or claims I brought under 28 U.S.C. 1605(a)(7). By so electing, as required by section 2002 of the Victims of Trafficking and Violence Protection Act of 2000, P.L. No. 106-386 as amended by section 686 of the Foreign Relations Authorization Act, Fiscal Year 2003, Public Law No. 107-228, and as further amended by section 201 of the Terrorism Risk Insurance Act of 2002, Public Law No. 107-297 (“section 2002”), I relinquish (a) all claims and rights to compensatory damages and amounts awarded as judicial sanctions under such judgments and any related interest, costs, and attorneys fees, and (b) all rights to execute against or attach property that is at issue in claims against the United States before an international tribunal, that is the subject of awards rendered by such tribunal, or that is subject to 28 U.S.C. 1610(f)(1)(A). In relinquishing these above-mentioned claims and rights, I recognize that I relinquish any rights to seek writs of attachment, execution, or garnishment, or any other form of post-judgment process directed against property that is at issue in claims against the United States before an international tribunal, that is the subject of awards rendered by such tribunal, or that is subject to 28 U.S.C. 1610(f)(1)(A) and intended to obtain partial or complete satisfaction of any amounts awarded in connection with the claim or claims under 28 U.S.C. 1605(a)(7) for which I am electing to receive payment.

“I understand that this relinquishment is irrevocable once the payment is credited to the bank account I have identified in this application. I further agree and acknowledge that, pursuant to section 2002(c), once the payment is credited to the bank account I have identified in this application, and to the extent such payment is made under section 2002(b)(2)(B), the United States shall be fully subrogated and assigned to all of my rights as a judgment creditor, and to the rights, if any, of any other person or entity to whom payments are made (collectively “payees”), against the debtor foreign state. Such subrogation and assignment of payees' rights as judgment creditors is binding on their guardians, heirs, executors, administrators or assigns.

“In the event that the Secretary of the Treasury determines that 90 percent of the amounts available to be paid under section 2002(b)(2) are inadequate to pay the total amount of compensatory damages awarded in judgments issued as of November 26, 2002, in cases identified in section 2002(a)(2)(A) with respect to Iran, I understand that the payment that I receive will be less than the full amount of compensatory damages awarded to me and that such payment will not include amounts necessary to pay post-judgment interest under 28 U.S.C. 1961. In that event, the relinquishment set forth above shall be null and void and, in lieu thereof, as required by section 2002(d)(5), I hereby relinquish (1) all rights and claims to punitive damages awarded in connection with the claim or claims I brought under 28 U.S.C. 1605(a)(7) and any related interest, costs, and attorneys fees, and (2) all rights to execute against or attach property that is at issue in claims against the United States before an international tribunal or that is the subject of awards by such tribunal.

“I understand that the relinquishment that I make in the event of any pro rata distribution is irrevocable once the payment is credited to the bank account I have identified in this application. I further agree and acknowledge that, pursuant to section 2002(c), once the payment is credited to the bank account I have identified in this application, and to the extent such payment is made under section 2002(b)(2)(B), the United States shall be subrogated and assigned, to the extent of such payment, to my rights as a judgment creditor, and to the rights, if any, of any other person or entity to whom payments are made (collectively “payees”), against the debtor foreign state. Such subrogation and assignment of payees' rights as judgment creditors is binding on their guardians, heirs, executors, administrators or assigns.

“I declare under penalty of perjury under the laws of the United States of America that the foregoing is true and correct. Executed on (insert date).”

(4) In addition, all Applicants shall submit the following declaration, which, pursuant to 28 U.S.C. 1746, must be signed by the applicant and, if the payee is different from the applicant, the payee.

“I/We & ____, (insert name of Applicant) and & ____ (insert name of payee, if different from Applicant) am/are entitled to the entire amount to be paid in this application. No other person, corporation, law firm, or other entity whatsoever either claims or is otherwise entitled to receive any portion of this payment from the United States of America. If any other person, corporation, law firm, or other entity (a “Third Party”) is ever determined by a final judgment of a court of the United States to be entitled to all or part of the payment made to the Applicant and payee (as named above), we (the Applicant and payee) promise immediately to reimburse, with interest, the United States for whatever amount of money is paid by it to a Third Party, and agree further to indemnify and hold harmless the United States for any such claims for payment asserted by a Third Party against the United States.

“I/we declare under penalty of perjury under the laws of the United States of America that the foregoing is true and correct. Executed on (insert date).”

Part 4. Sources of Funds for Payment

Section 2002 specifies the sources and amount of funds available for the payments authorized by that section. See section 2002(b). For purposes of funding payments in connection with judgments and sanctions against Cuba, section 2002 provides that the President shall vest and liquidate up to and not exceeding the amount of property of the Government of Cuba and sanctioned entities in the United States or any commonwealth, territory, or possession thereof that has been blocked pursuant to section 5(b) of the Trading with the Enemy Act (50 U.S.C. App. 5(b)), sections 202 and 203 of the International Emergency Economic Powers Act (50 U.S.C. 1701-1702), or any other proclamation, order, or regulation issued thereunder. It further provides that for the purposes of paying amounts for judicial sanctions, payment shall be made from funds or accounts subject to sanctions as of April 18, 2000, or from blocked assets of the Government of Cuba. See section 2002(b)(1).

For purposes of funding payments in connection with judgments against Iran, section 2002 provides that the Secretary shall make payments from amounts paid and liquidated from (a) rental proceeds accrued on the date of the enactment of the VTVPA from Iranian diplomatic and consular property located in the United States, and (b) funds not otherwise made available in an amount not to exceed the total of the amount in the Iran Foreign Military Sales Program account within the Foreign Military Sales Fund on the date of the enactment of the VTVPA to the extent provided by section 2002(b)(2)(B). The amount of funds made available by (a), above, will be determined based in part on information provided by the Department of State. The amount of funds initially made available by (b), above, was determined based on information provided by the Department of Defense.

Part 5. Payments to Applicants

Payments described in this Part are made pursuant to section 2002(d).

(a) Judgments issued as of November 26, 2002

(1) Following the expiration of the period for submitting claims as described in Part 2 of this notice, the Secretary promptly will determine whether 90 percent of the amounts available to be paid under section 2002(b)(2) are inadequate to pay the total amount of compensatory damages awarded in eligible final judgments issued as of November 26, 2002, to Applicants. See section 2002(d)(1)(A).

(2) In the event that the Secretary determines that 90 percent of the amounts available to be paid under section 2002(b)(2) are inadequate to pay the total amount of compensatory damages awarded in eligible final judgments issued as of November 26, 2002 to Applicants in cases identified in section 2002(a)(2)(A) with respect to Iran, the Secretary will, not later than 60 days after making such determination, make payment from such amounts available to be paid under section 2002(b)(2) to each Applicant to which such a judgment has been issued in an amount equal to a share, calculated under section 2002 (d)(1)(B), of 90 percent of the amounts available to be paid under section 2002 (b)(2) that have not been subrogated to the United States under section 2002 as of November 26, 2002.

(3) The share that is payable to an Applicant under (a) of this Part 5, including any Applicant issued a final judgment as of November 26, 2002, in a suit filed on a date added by the amendment made by section 686 of Public Law 107-228, shall be equal to the proportion that the amount of unpaid compensatory damages awarded in a final judgment issued to that Applicant bears to the total amount of all unpaid compensatory damages awarded to all Applicants to whom such judgments have been issued as of November 26, 2002, in cases identified in section 2002(a)(2)(A) with respect to Iran.

(b) Subsequent Judgment

The Secretary will pay to any Applicant awarded a final judgment after November 26, 2002, in the case filed on January 16, 2002, and identified in section 2002 (a)(2)(A) with respect to Iran, an amount equal to a share, calculated under section 2002(d)(2)(B), of the balance of the amounts available to be paid under section 2002(b)(2) that remain following the disbursement of all payments as described in (a) of this Part 5. The Secretary will make such payment not later than 30 calendar days after such judgment becomes final. To the extent that funds are available, the amount paid to such Applicant will be the amount the Applicant would have been paid as described in (a) of this Part 5 if the Applicant had been awarded the judgment prior to November 26, 2002.

(c) Additional Payments

(1) Not later than 30 calendar days after the disbursement of all payments described in (a) and (b) of this Part 5, the Secretary will make an additional payment to each Applicant who received a payment under (a) or (b) of this Part 5 in an amount equal to a share, calculated as described below, of the balance of the amounts available to be paid under section 2002(b)(2) that remain following the disbursement of all payments as described in (a) and (b) of this Part 5.

(2) The share payable to each such Applicant shall be equal to the proportion that the amount of compensatory damages awarded that Applicant bears to the total amount of all compensatory damages awarded to all Applicants who received a payment as described in (a) or (b) of this Part 5.

Part 6. Available Funds for Iran-Related Claims

Congress has directed that payments of eligible Iran-related claims pursuant to section 2002 be made from the following two sources of funds:

(2) Judgments Against Iran.—For purposes of funding payments under subsection (a) in the case of judgments against Iran, the Secretary of the Treasury shall make such payments from amounts paid and liquidated from—

(A) rental proceeds accrued on the date of the enactment of this Act from Iranian diplomatic and consular property located in the United States; and

(B) funds not otherwise made available in an amount not to exceed the total of the amount in the Iran Foreign Military Sales Program account within the Foreign Military Sales Fund on the date of the enactment of this Act.

Section 2002(b)(2).

With respect to the funds referred to in section 2002(b)(2)(A), the Treasury anticipates that approximately $7.8 million in rental proceeds accrued as of October 28, 2000, from Iranian diplomatic and consular property located in the United States will be available for the payment of the eligible claims filed with the Treasury after November 26, 2002, including but not limited to any claims re-filed with the Treasury after having been denied prior to November 26, 2002.

With respect to the funds referred to in section 2002(b)(2)(B), the Treasury anticipates that approximately $14 million will be available for the payment of the eligible claims filed with the Treasury after November 26, 2002, pursuant to section 2002, including but not limited to any claims re-filed with the Treasury after having been denied prior to November 26, 2002.

With respect to the funds referred to in section 20029b)(2)(A), the Treasury anticipates that approximately $14 million will be available for the payment of the eligible claims filed with the Treasury after November 26, 2002, pursuant to section 2002, including but not limited to any claims re-filed with the Treasury after having been denied prior to November 26, 2002.

Part 7. Notice Requirements Inapplicable

This notice advises applicants of the availability of funds pursuant to section 2002 and explains the nature of the information and documentation requirements established by that section. Accordingly, it has been determined that notice and public procedure are not required pursuant to 5 U.S.C. 553(a). Moreover, notice and public procedure are unnecessary pursuant to 5 U.S.C. 553(b)(B) because this notice merely explains the requirements of section 2002 and does not affect the substantive rights of applicants under that section. Notice and public procedure are impracticable and contrary to the public interest pursuant to 5 U.S.C. 553(b)(B) because section 2002 requires that payments be made “promptly,” see section 2002(a)(1), and it is in the public interest to establish the procedures to request payments without delay.

Part 8. Paperwork Reduction Act

The collection of information contained in this notice has been reviewed and approved by the Office of Management and Budget (OMB) pursuant to section 3507 of the Paperwork Reduction Act of 1995 (44 U.S.C. 3501 et seq.) and assigned OMB Control Number 1505-0177. An agency may not conduct or sponsor, and a person is not required to respond to, an information collection that does not display a currently valid OMB control number. The collection of information specified in this notice is required to enable the Department of the Treasury to determine the eligibility of an applicant under section 2002. The collection of information is voluntary, but it is required to obtain a payment authorized by section 2002. The estimated average burden per applicant is 3 hours. Comments concerning the accuracy of this burden estimate and suggestions for reducing this burden should be directed to the agency contact specified earlier in this notice and to OMB, Attention: Desk Officer for the Department of the Treasury, Office of Information and Regulatory Affairs, Washington, DC 20503.

The figures provided above are only estimates of amounts available and may be subject to change.

Dated: February 7, 2003.
R. Richard Newcomb,
Director, Office of Foreign Assets Control.
Approved: February 12, 2003.
Kenneth Lawson,
Assistant Secretary (Enforcement), Department of the Treasury.

[FR Doc. 03-3925 Filed 2-13-03; 1:47 pm]

BILLING CODE 4810-25-P